DEPARTMENT OF HEALTH AND HUMAN SERVICES

National Institutes of Health

National Institute on Drug Abuse; Amended Notice of Meeting

Notice is hereby given of a change in the meeting of the National Institute on Drug Abuse Special Emphasis Panel, September 24, 2002, 10 a.m. to September 24, 2002, 12 p.m., Neuroscience Center, National Institutes of Health, 6001 Executive Blvd., Rockville, MD 20852 which was published in the Federal Register on August 27, 2002, Vol. 67, Number 166.

The date, time and location of the meeting has been changed to October 4, 2002, from 9 a.m. to 5 p.m. at the DoubleTree Hotel, 1750 Rockville Pike, Rockville, MD 20852. The meeting is closed to the public.

Dated: September 20, 2002.
LaVerne Y. Stringfield,
Director, Office of Federal Advisory Committee Policy.

[FR Doc. 02-24551 Filed 9-26-02; 8:45 am]

BILLING CODE 4140-01-M